DEPARTMENT OF LABOR

Employment and Training Administration

[TA-W-70,460]

Delphi Steering Currently Known as Nexteer Automotive Including On-Site Leased Workers From Acro Services Corporation, Aerotek, Inc., Continental, Inc., Dynamic Corp., G-Tech Professional Staffing, Inc., Globaledgetechnologies, Inc. (Formerly Cae Tech), Gonzalez Contract Services, Integrated Partners Group LLC, Kelly Services, Manpower, Inc., Rapid Global Business Solutions, Inc., TAC Worldwide, Trialon Corp., Trison Business Solutions, Wright K Technologies, Interim Health Care, Bartech and Sercuritas Saginaw, MI; Amended Certification Regarding Eligibility To Apply for Worker Adjustment Assistance

In accordance with Section 223 of the Trade Act of 1974, as amended (“Act”), 19 U.S.C. 2273, the Department of Labor issued a Certification of Eligibility to Apply for Worker Adjustment Assistance on July 14, 2009, applicable to workers of Delphi Steering, including on-site leased workers from Bartech and Securitas, Saginaw, Michigan. The notice was published in the Federal Register on September 2, 2009 (74 FR 45477) The notice was amended on October 7, 2009 and November 10, 2009 to include on-site leased workers from Acro Services Corporation, Aerotek, Inc., Continental, Inc., Dynamic Corp., G-Tech Professional Staffing, Inc., Globaledge Technologies, Inc. (formerly Cae Tech), Gonzalez Contract Services, Integrated Partners Group LLC, Kelly Services, Manpower, Inc., Rapid Global Business Solutions, Inc., TAC Worldwide, Trialon Corp., Trison Business Solutions, Wright K Technologies, Interim Health Care, Bartech and Securitas, Saginaw, Michigan. The notices were published in the Federal Register on October 20, 2009 (74 FR 53760-53761) and December 8, 2009 (74 FR 64716) respectively.

At the request of the State agency, the Department reviewed the certification for workers of the subject firm. The workers are engaged in the production of steering systems and components such as steering columns, gears, pumps and electronic power steering systems.

New information shows that as of October 6, 2009, the Saginaw, Michigan location Delphi Steering is now known as Nexteer Automotive. Some workers separated from employment at the subject firms have their wages reported under a separate unemployment insurance (UI) tax accounts for Nexteer Automotive.

Accordingly, the Department is amending this certification to properly reflect this matter.

The intent of the Department's certification is to include all workers of the subject firm who were adversely affected by a shift in production of steering systems and components such as steering columns, gears, pumps and electronic power steering systems to Mexico and Brazil.

The amended notice applicable to TA-W-70,460 is hereby issued as follows:

All workers of Delphi Steering, currently known as Nexteer Automotive, including on-site leased workers from Acro Services Corporation, Aerotek, Inc., Continental, Inc., Dynamic Corp., G-Tech Professional Staffing, Inc., Globaledge Technologies, Inc. (formerly Cae Tech), Gonzalez Contract Services, Integrated Partners Group LLC, Kelly Services, Manpower, Inc., Rapid Global Business Solutions, Inc., TAC Worldwide, Trialon Corp., Trison Business Solutions, Wright K Technologies, Interim Health Care, Bartech and Securitas, Saginaw, Michigan, who became totally or partially separated from employment on or after May 20, 2008 through July 14, 2011, and all workers in the group threatened with total or partial separation from employment on the date of certification through two years from the date of certification, are eligible to apply for adjustment assistance under Chapter 2 of Title II of the Trade Act of 1974, as amended.

Signed at Washington, DC, this 22nd day of July 2010.
Richard Church,
Certifying Officer, Division of Trade Adjustment Assistance.

[FR Doc. 2010-18833 Filed 7-30-10; 8:45 am]

BILLING CODE P